DEPARTMENT OF THE INTERIOR

Minerals Management Service

Agency Information Collection Activities: Submitted for Office of Management and Budget (OMB) Review; Comment Request

AGENCY: Minerals Management Service (MMS), Interior.

ACTION: Notice of extension of an information collection (1010-0049).

SUMMARY: To comply with the Paperwork Reduction Act of 1995 (PRA), we are notifying the public that we have submitted to OMB an information collection request (ICR) to renew approval of the paperwork requirements in the regulations under “30 CFR 250, Subpart B, Exploration and Development and Production Plans.” This notice also provides the public a second opportunity to comment on the paperwork burden of these regulatory requirements.

DATES: Submit written comments by August 27, 2003.

ADDRESSES: You may submit comments either by fax (202) 395-5806 or e-mail (Ruth_Solomon@omb.eop.gov) directly to the Office of Information and Regulatory Affairs, OMB, Attention: Desk Officer for the Department of the Interior (1010-0049). Mail or hand carry a copy of your comments to the Department of the Interior; Minerals Management Service; Attention: Rules Processing Team; Mail Stop 4024; 381 Elden Street, Herndon, Virginia 20170-4817.

FOR FURTHER INFORMATION CONTACT: Arlene Bajusz, Rules Processing Team, telephone (703) 787-1600. You may also contact Arlene Bajusz to obtain a copy, at no cost, of the regulations, forms, and notices that require the subject collection of information.

SUPPLEMENTARY INFORMATION:

Title: 30 CFR 250, Subpart B, Exploration and Development and Production Plans.

OMB Control Number: 1010-0049.

Bureau Form Numbers: Forms MMS-137, MMS-138, MMS-139, and MMS-141.

Abstract: The Outer Continental Shelf (OCS) Lands Act, as amended (43 U.S.C. 1331 et seq. and 43 U.S.C. 1801 et seq.), authorizes the Secretary of the Interior to prescribe rules and regulations to administer leasing of the OCS. Such rules and regulations will apply to all operations conducted under a lease. Operations on the OCS must preserve, protect, and develop oil and natural gas resources in a manner that is consistent with the need to make such resources available to meet the Nation's energy needs as rapidly as possible; to balance orderly energy resource development with protection of human, marine, and coastal environments; to ensure the public a fair and equitable return on the resources of the OCS; and to preserve and maintain free enterprise competition.

Sections 11 and 25 of the amended OCS Lands Act require the holders of OCS oil and gas and sulphur leases to submit exploration plans (EPs) and development and production plans (DPPs) for approval before starting these activities. The implementing regulations and associated information collection requirements are contained in 30 CFR 250, subpart B, Exploration and Development and Production Plans. In addition, MMS has issued Notices to Lessees and Operators (NTLs) that provide supplementary guidance and procedures as applicable to each Region or nationally. These NTLs address the various surveys, reports, plans (including deepwater operations plans and conservation information), etc., that are necessary for MMS to approve exploration or development and production activities.

With this submission, we are requesting renewal of the currently approved information collection requirements of subpart B, and related forms and NTLs, and are revising form MMS-137, OCS Plan Information Form. The revised form has been redesigned and includes additional information on schedule and description of proposed activities and associated anchors with no change to the burden.

The MMS engineers, geologists, geophysicists, and environmental scientists use the information collected under subpart B, and related forms and NTLs, to analyze and evaluate the planned operations to ensure that they will not adversely affect the marine, coastal, or human environment and that they conserve the resources of the OCS. It would be impossible for the Regional Supervisor to make an informed decision on whether to approve the proposed plans, or whether modifications are necessary, without the analysis and evaluation of the required information. The affected States also review the information collected for consistency with approved Coastal Zone Management plans.

Frequency: On occasion.

Estimated Number and Description of Respondents: Approximately 150 Federal OCS oil, gas, and sulphur lessees.

Estimated Reporting and Recordkeeping “Hour” Burden: The estimated annual “hour” burden for this information collection is a total of 300,905 hours. The following chart details the individual components and estimated hour burdens. In calculating the burdens, we assumed that respondents perform certain requirements in the normal course of their activities. We consider these to be usual and customary and took that into account in estimating the burden.

Citation 30 CFR 250 subpart B and related NTLs | Reporting and recordkeeping requirement | Hour burden | Average number annual responses | Annual burden hours
201 | Notify MMS and others of preliminary activities and submit follow-up information | 10 | 22 notices/information | 220
202 | Submit conservation information documents | 443 | 30 documents | 13,290
203 | Submit initial exploration plan, including surveys, reports, studies, GOM Region forms MMS-137, MMS-138, MMS-139, etc., including notification requirements | 580 | 200 plans | 116,000
203(i), (j), (k), (l), (n), (q) | Submit revised/modified exploration plan, including surveys, reports, studies, departures, etc | 118 | 220 | 25,960
203(o); 204(s) | Conduct surveys or monitoring programs and submit results; form MMS-141 | 2 | 2 each for 33 wells = 66 | 132
203(p); 204(t) | Submit Application for permit to Drill | Burden covered under 1010-0044 |  | 0
204 | Submit initial development and production plan (or DOCD used in western GOM), including surveys, reports, studies, GOM Region forms MMS-137, MMS-138, MMS-139, etc., including notification requirements | 630 | 110 plans | 69,300
204 | Submit deepwater operations plans for projects in GOM water depths greater than 1,000 feet and projects utilizing subsea production technology | 750 | 68 plans | 51,000
204(k) | Submit preliminary plans for tracts in vicinity of a DPP that requires NEPA procedures | 2 | 0 plans | 0
204(l), (m), (n), (o), (q), (u) | Submit revised/modified development and production plan (or DOCD), including surveys, reports, studies, departures, etc | Gulf Region: 95 | 250 revisions | 23,750
| (Pacific Region hours dramatically increased due to political issues in California) | Pacific Region: 600 | 1 revision | 600
250.200-250.204 | General departure and alternative compliance requests not specifically covered elsewhere in subpart B | 1 | 25 | 25
Reporting Subtotal |  |  | 992 Responses | 300,277
Supplemental NTLs | Retain original copies of surveys, studies, reports, etc. (Note: Respondents would retain these as part of usual and customary business activities. The burden is to make them available to MMS if needed.) | 2 | 314 | 628
Recordkeeping Subtotal |  |  | 150 Record-keepers | 628
Total Burden |  |  | 1,306 Responses | 300,905

Estimated Reporting and Recordkeeping “Non-Hour Cost” Burden: We have identified no reporting and recordkeeping “non-hour” cost burdens for this collection.

Public Disclosure Statement: The PRA (44 U.S.C. 3501, et seq.) provides that an agency may not conduct or sponsor a collection of information unless it displays a currently valid OMB control number. Until OMB approves a collection of information, you are not obligated to respond.

Comments: Section 3506(c)(2)(A) of the PRA (44 U.S.C. 3501, et seq.) requires each agency “* * * to provide notice * * * and otherwise consult with members of the public and affected agencies concerning each proposed collection of information * * *” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, on March 25, 2003, we published a Federal Register notice (68 FR 14423) announcing that we would submit this ICR to OMB for approval. The notice provided the required 60-day comment period. In addition, § 250.199 provides the OMB control number for the information collection requirements imposed by the 30 CFR 250, subpart B, regulations and forms. The regulation also informs the public that they may comment at any time on the collections of information and provides the address to which they should send comments. We have received no comments in response to these efforts.

If you wish to comment in response to this notice, you may send your comments to the offices listed under the ADDRESSES section of this notice. OMB has up to 60 days to approve or disapprove the information collection but may respond after 30 days. Therefore, to ensure maximum consideration, OMB should receive public comments by August 27, 2003.

Public Comment Policy: Our practice is to make comments, including names and home addresses of respondents, available for public review during regular business hours. Individual respondents may request that we withhold their home address from the record, which we will honor to the extent allowable by the law. There may be circumstances in which we would withhold from the record a respondent's identity, as allowable by the law. If you wish us to withhold your name and/or address, you must state this prominently at the beginning of your comment. However, we will not consider anonymous comments. We will make all submissions from organizations or businesses, and from individuals identifying themselves as representatives or officials of organizations or businesses, available for public inspection in their entirety.

MMS Information Collection Clearance Officer: Jo Ann Lauterbach, (202) 208-7744.

Dated: July 3, 2003.
E.P. Danenberger,
Chief, Engineering and Operations Division.

[FR Doc. 03-19071 Filed 7-25-03; 8:45 am]

BILLING CODE 4310-MR-P